DEPARTMENT OF THE TREASURY

Community Development Financial Institutions Fund

Proposed Collection; Comment Request

ACTION: Notice and request for comments.

SUMMARY: The U.S. Department of the Treasury, as part of its continuing effort to reduce paperwork and respondent burden, invites the general public and other public agencies to take this opportunity to comment on proposed and/or continuing information collections, as required by the Paperwork Reduction Act of 1995, Pub. Law 104-13 (44 U.S.C. 3506(c)(2)(A)).

Currently, the Community Development Financial Institutions (CDFI) Fund, Department of the Treasury, is soliciting comments concerning the Evaluation of the New Markets Tax Credit (NMTC) Program. This notice announces the CDFI Fund's intent to request approval from the Office of Management and Budget (OMB) for new information collection activities associated with an independent, multi-year evaluation of the NMTC Program. It includes a one-time information collection effort involving participants and stakeholders in the program, which is intended to describe and assess program activities as well as identify project-specific and community level outputs and outcomes. The data collection will provide critical information for the evaluation. Clearance is requested for the following new data collection activities: (1) Case-style data collection related to approximately 80 randomly sampled NMTC projects that will consist of semi-structured telephone interviews with persons associated with those projects—i.e., approximately 80 representatives of Community Development Entities (CDEs), 80 representatives of Qualified Active Low Income Businesses (QALICBs), 80 investors, and 80 other key project stakeholders; (2) a web-based, predominantly closed-ended survey of representatives of approximately 380 QALICBs; and (3) a web-based, predominantly closed-ended survey of approximately 380 local community/economic development officials.

DATES: Written comments must be received on or before April 5, 2010 to be assured of consideration.

ADDRESSES: Direct all comments to Greg Bischak, Program Manager for Financial Strategies and Research, Community Development Financial Institutions Fund, U.S. Department of the Treasury, 601 13th Street, NW., Suite 200 South, Washington, DC 20005, by e-mail to cdfihelp@cdfi.treas.gov, or by facsimile to (202) 622-7754. Please note this is not a toll-free number.

FOR FURTHER INFORMATION CONTACT: Requests for additional information or copies of this information collection should be directed to Greg Bischak at (202) 622-8669.

SUPPLEMENTARY INFORMATION: Title: Evaluation of the New Markets Tax Credit (NMTC) Program.

OMB Number: Not yet assigned.

Type of Request: New collection of information.

Abstract: The NMTC Program was established by the Community Renewal Tax Relief Act of 2000 to encourage private capital investment in low-income communities that are, or are perceived to be, high investment risks. It permits individual and corporate taxpayers to receive a credit against federal income taxes for making qualified equity investments in designated Community Development Entities (CDEs). Substantially all of the qualified equity investment must in turn be used by CDEs to provide investments in Qualified Active Low-Income Community Businesses (QALICBs), which include both operating businesses and real estate developments. The federal tax credits are allocated competitively by the CDFI Fund to CDEs. CDEs, in turn, select the projects in which to invest.

There is considerable flexibility and, consequently, variability with respect to the types of projects that can be supported by NMTC-stimulated investments. They can include for-profit and non-profit businesses involving a range of commercial, industrial, retail, manufacturing, mixed-uses, and facilities such as for childcare, health or charter schools.

The evaluation involves multiple research methods to produce valid evidence for describing and assessing program activities and outcomes. The focus is on the program's primary objective of attracting capital to low-income, economically distressed communities so as to further their economic and community development. The evaluation is intended to inform an array of important policy questions, including: How and in what manner the program is affecting the flow of new private capital to low-income communities; where, in what timeframe, and how that capital is invested to achieve community and economic development objectives; and the quantity, nature, and quality of the benefits to low-income communities and persons that can potentially be attributed to the NMTC Program.

The evaluation includes: (a) A review of the relevant economic development, performance measurement, and tax credit literature; (b) interviews with key NMTC stakeholders; (c) an analysis of NMTC administrative data; (d) the development of a typology of NMTC projects; and (e) an examination of secondary public and private data. To address the key evaluation issues noted above, new data must be gathered about NMTC projects beyond what is already being collected by the CDFI Fund. Clearance is requested for the following new data collection efforts: (1) Case-style data collection related to approximately 80 randomly sampled NMTC projects that will consist of semi-structured telephone interviews with approximately 80 CDEs, 80 QALICBs, 80 investors, and 80 other key project stakeholders; (2) a web-based, predominantly closed-ended survey of representatives of approximately 380 QALICBs; and (3) a web-based, predominantly closed-ended survey of approximately 380 local community/economic development officials.

Toward this end, clearance is requested for four topical discussion guides, a data sheet for CDEs, a data sheet for QALICBs, and two survey instruments.

Respondents are CDEs that received NMTC allocation authority and used these credits to finance qualified investments, QALICBs that received equity or debt investments using NMTCs, investors in projects that include NMTCs, local community and economic development officials or other stakeholders in NMTC projects, such as accountants, attorneys, or local organizations involved in the projects.

Estimated Number of Respondents: 890.

Number of Responses per Respondent: In general, it is expected that each CDE will respond only once. Some CDE representatives may be requested to respond more than once because they may have provided allocations for more than one project in the sample selected.

Estimated Time per Response: All burden estimates include respondents' time to prepare for and complete surveys, information sheets (where applicable) and interviews. Estimated times are as follows: QALICB survey: 30 minutes; Local Community/Economic Development Officials' Survey: 20 minutes; CDE and QALICB Telephone Interviews: 60 minutes; Investor and Local Stakeholder Interviews: 45 minutes; and CDE and QALICB Data Sheet: 30 minutes.

Estimated Total Annual Burden on Respondents: 494 hours.

Requests for Comments: All written comments will be open for public inspection and may be obtained from the CDFI Fund's Web site at http://www.cdfifund.gov.

All responses to this notice will be summarized and included in the request for OMB approval. All comments will be a matter of public record. Comments are invited on the following:

(a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Authority: 26 U.S.C. 45D; 31 U.S.C. 321; 26 CFR 1.45D-1.

Dated: January 29, 2010.
Donna J. Gambrell,
Director, Community Development Financial Institutions Fund.

[FR Doc. 2010-2425 Filed 2-3-10; 8:45 am]

BILLING CODE 4810-70-P